DEPARTMENT OF AGRICULTURE

Forest Service

Proposed New Recreation Fee Sites

AGENCY: Forest Service, Agriculture (USDA).

ACTION: Notice.

SUMMARY: The Tahoe National Forest is proposing to establish a new recreation fee site and a new annual recreation pass. Recreation fee revenues collected at the new recreation fee site would be used for operation, maintenance, and improvement of the new site. Recreation fee revenues collected from the new annual pass would be used for operation, maintenance, and improvement of the standard amenity recreation fee sites listed in the SUPPLEMENTARY INFORMATION section of this notice. An analysis of nearby recreation fee sites with similar amenities shows the recreation fees that would be charged at the new recreation fee site and the fees collected from the annual pass are reasonable and typical of similar recreation fee sites in the area.

DATES: If approved, the new recreation fee and new annual recreation pass would be implemented no earlier than six months following the publication of this notice in the Federal Register.

ADDRESSES: Tahoe National Forest, 631 Coyote Street, Nevada City, CA 95959.

FOR FURTHER INFORMATION CONTACT: Mary Sullivan, Forest Recreation Program Manager, 530-478-6298 or mary.sullivan2@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, chapter 30, the Forest Service will publish the proposed new recreation fee site, as well as the proposed new annual recreation pass, in local newspapers and other local publications for public comment. Most of the new recreation fee revenues would be spent where they are collected to enhance the visitor experience at the new recreation fee site and existing recreation fee sites that will honor the new annual recreation pass.

A new expanded amenity recreation fee of $75 per night would be charged for rental of Grouse Ridge and Sardine Peak Lookouts. A new Tahoe National Forest annual pass of $40 per vehicle per year would be honored for the existing standard amenity recreation fees charged at the French Meadows, McGuire, and Sugar Pine boating sites and at the Manzanita Picnic Area. The America the Beautiful—the National Parks and Federal Recreational Lands Pass would continue to be honored at these standard amenity recreation fee sites.

Expenditures from recreation fee revenues collected at the new recreation fee site as well as from the annual recreation pass would enhance recreation opportunities, improve customer service, and address maintenance needs. Once public involvement is complete, the new recreation fee and new annual recreation pass will be reviewed by a Resource Advisory Committee prior to a final decision and implementation. Reservations for Grouse Ridge and Sardine Peak Lookouts could be made online at www.recreation.gov or by calling 877-444-6777. Reservations would cost $8.00 per reservation.

Dated: December 5, 2023.
Jacqueline Emanuel,
Associate Deputy Chief, National Forest System.

[FR Doc. 2023-27118 Filed 12-8-23; 8:45 am]

BILLING CODE 3411-15-P